DEPARTMENT OF THE INTERIOR

Fish and Wildlife Service

[FWS-HQ-WSFR-2015-N190; FVWF941009000007B-XXX-FF09W11000; FVWF51100900000-XXX-FF09W11000]

Information Collection Request Sent to the Office of Management and Budget for Approval; Wildlife and Sport Fish Grants and Cooperative Agreements

AGENCY: Fish and Wildlife Service, Interior.

ACTION: Notice; request for comments.

SUMMARY: We (U.S. Fish and Wildlife Service) have sent an Information Collection Request (ICR) to Office of Management and Budget (OMB) for review and approval. We summarize the ICR below and describe the nature of the collection and the estimated burden and cost. This information collection is scheduled to expire on September 30, 2015. We may not conduct or sponsor and a person is not required to respond to a collection of information unless it displays a currently valid OMB control number. However, under OMB regulations, we may continue to conduct or sponsor this information collection while it is pending at OMB.

DATES: You must submit comments on or before October 30, 2015.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0109” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0109.

Title: Wildlife and Sport Fish Grants and Cooperative Agreements, 50 CFR parts 80, 81, 84, 85, and 86.

Service Form Number: None.

Type of Request: Revision of a currently approved collection.

Description of Respondents: States; the Commonwealths of Puerto Rico and the Northern Mariana Islands; the District of Columbia; the territories of Guam, U.S. Virgin Islands, and American Samoa; federally recognized tribal governments; institutions of higher education; and nongovernmental organizations.

Respondent's Obligation: Required to obtain or retain a benefit.

Frequency of Collection: Annually for applications for new grants; on occasion for amendments; and annually and at the end of the project for performance reports. We may require more frequent reports under the conditions stated at 2 CFR 200.205 and 2 CFR 200.207.

Activity | Number of respondents | Number of responses | Completion time per response | Total annual burden hours
Initial Application (project narrative) | 200 | 2,500 | 37 | 92,500
Revision of Award Terms (Amendment) | 150 | 1,500 | 3 | 4,500
Performance Reports | 200 | 3,500 | 8 | 28,000
Totals | 550 | 7,500 |  | 125,000

Estimated Annual Nonhour Burden Cost: None.

Abstract: The Wildlife and Sport Fish Restoration Program (WSFR), U.S. Fish and Wildlife Service, administers financial assistance programs in whole or in part (see 80 FR 31061, June 1, 2015). We award most financial assistance as grants, but cooperative agreements are possible if the Federal Government will be substantially involved in carrying out the project. You can find a description of most programs in the Catalog of Federal Domestic Assistance. Some financial assistance programs are directly funded through WSFR, others are funded through non-WSFR Federal programs and WSFR administers various aspects of the financial assistance. When WSFR administers a grant in part or in whole, it follows the same processes for information collection to ensure the recipient complies with Federal laws, regulations, and policies applicable to financial assistance.

Authorities and implementing regulations establish the purposes of the grant programs and the types of projects to be funded. Some list eligibility criteria as well as activities ineligible for funding. The authorities and implementing regulations for the competitive programs establish preferences or ranking factors for the selection of projects to be funded. These legal requirements make it essential for an awarding agency to have certain information so that it funds only eligible projects, and, in the case of competitive programs, to select those projects that will result in the greatest return on the Federal investment.

Some grants are mandatory and receive funds according to a formula set by law or policy. Other grants are discretionary, and we award them based on a competitive process. Mandatory grant recipients must give us specific, detailed project information during the application process so that we can ensure that projects are eligible for the mandatory funding, are substantial in character and design, and comply with all applicable Federal laws. All grantees must submit financial and performance reports that contain information necessary for us to track costs and accomplishments.

In February 2014, OMB approved our request to use a new electronic system (Wildlife Tracking and Reporting Actions for the Conservation of Species (Wildlife TRACS)) to collect application and performance reporting information on our grant programs. OMB assigned OMB Control No. 1018-0156, which expires February 28, 2017. Wildlife TRACS allows us to take advantage of newer technology and gives applicants direct access to enter project information that can be used to submit an application through http://www.grants.gov (Grants.gov). Grantees can also report performance accomplishments in Wildlife TRACS. We are including the use of Wildlife TRACS and the collection of additional information in this revision to OMB Control No. 1018-0109. If OMB approves this revision, we will discontinue OMB Control No. 1018-0156.

We may require all States to directly enter project information and performance reporting into Wildlife TRACS by October 1, 2016. We continue to offer training and support to States on entering information into the new system. When States fully engage in directly entering all application and project performance reporting into Wildlife TRACS, we expect there will be a reduction in the burden to report the information. States will become more adept with experience, and efficiencies of the electronic system will be realized starting in the second full year of use. A majority of WSFR-administered projects are continuations of similar actions and/or at the same locations. Wildlife TRACS is designed to ease the administrative burden of applying for and reporting on grants for projects that fall into these parameters. The table above reflects the burden reduction that we expect over the next 3 years. Not all grantees will directly enter information into Wildlife TRACS. We will enter information when we determine that it is not efficient or in the best interest of the program to have grantees enter information.

To apply for financial assistance funds, you must submit an application that describes in substantial detail project locations, benefits, funding, and other characteristics. Materials to assist applicants in formulating project proposals are available on Grants.gov. We use the application to determine:

• Eligibility.

• Scale of resource values or relative worth of the project.

• If associated costs are reasonable and allowable.

• Potential effect of the project on environmental and cultural resources.

• How well the proposed project will meet the purposes of the program's establishing legislation.

• If the proposed project is substantial in character and design.

• For competitive programs, how the proposed project addresses ranking criteria.

Persons or entities receiving grants must submit periodic performance reports that contain information necessary for us to track costs and accomplishments. Information for amendments to grants will be collected as needed.

We will collect the following information under OMB Control No. 1018-0109:

Applications.

• Summary and project narratives that describe the proposed project;

• Need for assistance;

• Approach;

• Timelines;

• Budget information including a budget narrative;

• Geospatial entry of project location;

• Project status (active, completed, etc.);

• Project leader contact information;

• Partner information;

• Objectives, including output measures and desired future values;

• Public description;

• Action status (active, completed, etc.);

• Summary trend information, as applicable;

• Estimated costs, by action. (non-auditable);

• Effectiveness measures (initially for State Wildlife Grants);

• Plan information (for projects connected to plans);

• Information related to outcomes; and

• Addressing ranking factors, as required by competitive grant programs.

For research and demonstration assistance requests:

• A biographical sketch of the program director with the following information: Name, address, telephone number, background, and other qualifying experience for the project; and

• The name, training, and background for other key personnel engaged in the project.

For real property acquisition projects:

• Maps, images, and other data that reflect project location and benefits;

• Transactions, such as dates, method of transfer, title holder, and seller;

• Identifiers, such as State and Federal Record ID, parcel number, and property name;

• Values such as appraised value, purchase price and other cost information, and acres or acre feet;

• Encumbrances;

• Partners;

• Copies of any options, purchase agreements, mineral assessment reports, and draft conservation easements; and

• Information needed for legal compliance; and copies of documents that demonstrate the grantee complied with 49 CFR 24, 2 CFR 200, program regulations, and other mandatory legal requirements.

Amendments. Most grantees must explain and justify requests for amendments to terms of the grant. We use this information to determine the eligibility and allowability of activities and to comply with the requirements of 2 CFR 200.

Performance Reports. All grantees must submit performance reports in the format requested by the Service. We use this information to ensure that the grantee is accomplishing the work on schedule and to identify any problems that the grantee may be experiencing in accomplishing that work. Grantees submit annual reports; however, reporting periods may be adjusted according to regulations at 2 CFR 200.328. Reports may include:

• A comparison of actual accomplishments with the goals and objectives established for the period, the findings of the investigator, or both.

• Reasons why established goals were not met, if appropriate.

• Other pertinent information including, when appropriate, (1) analysis and explanation of cost overruns or high unit costs and (2) for land acquisition projects, a copy of the deed or other conveyance document and a copy of the Notice of Federal Participation.

Comments Received and Our Responses

On June 1, 2015, we published in the Federal Register (80 FR 31061) a notice of our intent to request that OMB renew approval for this information collection. In that notice, we solicited comments for 60 days, ending on July 31, 2015. We received comments from eight States and one individual.

Whether or not the collection of information is necessary, including whether or not the information will have practical utility.

Comment: Two respondents agreed that the collection of information is necessary and has always been a requirement of WSFR. However, they expressed concerns with the format, saying that using Wildlife TRACS is forcing States to change their established procedures.

Response: We agree that States have always had the responsibility to develop and submit performance reports for projects/grants. Prior to Wildlife TRACS, States submitted written reports to the Service. Service staff then interpreted and entered the information into the electronic system (Federal Aid Information Management System (FAIMS)). The Department of the Interior decommissioned FAIMS on October 1, 2012. We are required by law to collect performance information. Wildlife TRACS gives us the opportunity to allow States to more accurately report information by entering it directly. We agree that both Federal and State procedures for information sharing/data entry are changing following the decommissioning of FAIMS and the introduction of Wildlife TRACS. We are working closely with States to improve information collection and data entry so that the adjustment to using Wildlife TRACS will lead to more efficient and effective reporting. We are open to suggestions for further improvements.

Comment: One commenter stated that rather than thinking of Wildlife TRACS as an “increase in the amount of data” that grantees will be required to submit, using Wildlife TRACS should be thought of as a “change in the format” that the data is submitted. States are already providing the information, just in a different format. This new format will not constitute a significant increase in the time or resources required to either create or report on a project.

Response: We agree and thank the respondent for recognizing that using Wildlife TRACS is changing the format for collecting information to a more efficient and effective electronic system.

Comment: Two respondents stated that the Wildlife TRACS structure does not provide a clear benefit to either States or Regional FWS Offices.

Response: We disagree. The Wildlife TRACS structure is intuitive and helps users enter information in a logical progression. The fields provided assist users to consider all needed information, allowing the Service to more efficiently review and approve projects. Once States become familiar with the Wildlife TRACS format, it will allow users to better design Wildlife TRACS-ready projects and provide the Service with adequate information to make decisions. As more projects are entered into Wildlife TRACS, States and the Service will be able to run more robust reports that will help identify trends, determine best processes, quantify results, and inform future actions. As additional system improvements are made, more reporting and data analyses tools will be available to provide benefit to the Service and users.

Comment: One respondent stated that Wildlife TRACS is forcing States to alter the format of existing grants and performance reporting to fit the Wildlife TRACS format, rather than a format that States feel works best for their particular projects.

Response: We agree that Wildlife TRACS is a different format for data collection, but disagree that the change in format affects the ability of States to design and implement projects. Wildlife TRACS does not represent a change in program requirements or substantiality in character or design. We will not require users to retroactively enter information into Wildlife TRACS. Wildlife TRACS data entry will only be required going forward. We have imported information on past projects from FAIMS into Wildlife TRACS as legacy data.

Comment: One respondent objected to using the tools in Wildlife TRACS, such as targeted fields and drop down menus, and connecting them back to SMART (Specific, Measurable, Achievable, Relevant, Time-bound) objectives that have significant limitations and questionable utility for reporting.

Response: We disagree. The interface and tools in Wildlife TRACS are designed to logically guide the user and allow less complicated and varied data entry. The selections provided in drop down menus have been vetted through Federal/State teams and it is believed that they cover all possible choices for the information needed. Often, a single metric may be characterized through many variations in language. Standardizing certain entries by limiting selections allows us to generate reports that include all projects that have similar components without having to search for all the variations in language. Using SMART objectives is integral to project management and helps users focus on the desired outputs. Wildlife TRACS is designed to give users the flexibility to use the SMART objective fields or to create SMART objectives in narrative format.

Comment: One respondent stated that Wildlife TRACS is explained as a way of collecting and reporting useful information for all grant-funded actions. However, the type and purposes of grants is so varied, with such wide-ranging objectives, that Wildlife TRACS information can only be captured and reported effectively at a very high level.

Response: We agree that a large variety of projects will be reported in Wildlife TRACS, but we disagree with the respondent's statement that suggests reporting won't be relevant. Reporting is required down to the “Action level” for most projects. This allows us to produce reports that address both high-level and detailed perspectives, depending on need. Wildlife TRACS offers both standardized and customizable approaches for describing objectives in an effort to encapsulate the varied grant types and purposes.

Comment: Two respondents stated that the grants submission and reporting process, which has been successful for many years, provides the Service with the necessary information to approve grants. Wildlife TRACS is not a system that can readily be used to develop, edit, and write a proposal. It is simply a repository of the information, so there is duplication of workload from Wildlife TRACS data entry.

Response: We disagree. Paper submissions often lacked required information and led to additional workload for both Federal and State grant managers. Wildlife TRACS is designed to guide users to address all pertinent project information. We offer training for project leaders that will assist them in using Wildlife TRACS to help build projects. Although Wildlife TRACS is not a grant application system, users can produce reports from Wildlife TRACS that they can then use when submitting grant applications through Grants.gov. Future enhancements to Wildlife TRACS may include the ability to transmit a proposal to Grants.gov for approval. Wildlife TRACS does not create a duplication of effort as we do not require that the information entered into Wildlife TRACS also be submitted on paper.

Comment: Two respondents expressed that the Service should retain the responsibility to enter data into Wildlife TRACS. One stated that the information collected has no practical utility for State programs, which will be charged with managing data input. Their opinion is that Wildlife TRACS is strictly a Service project that is geared for the benefit of the Service. The States are well-served for State purposes by the present grant reporting system, which allows States to submit usable products as evidence of grant/project completion. The easing of burdens is only realized by Service staff, not by States. The other respondent stated the transfer of workload will greatly increase administrative costs for States.

Response: We disagree. The information collection will give States the ability to accurately reflect project objectives and accomplishments, as well as providing information that will help States to better assess conservation needs and accomplishments. Wildlife TRACS will allow users to directly enter information, reducing errors from misinterpretation by Service staff tasked with translating and transmitting information from paper to an electronic system. Wildlife TRACS will also help States address increased grant-recipient responsibilities and provide for better reporting of State accomplishments. The reporting mechanisms in Wildlife TRACS will help States provide evidence of project/agency successes to their elected representatives and the public. Planning and reporting on projects are already being done, so it is a matter of adjusting resources to accommodate Wildlife TRACS. We believe that any increase in administrative costs to States will be temporary and may be addressed through grant funding.

Comment: One respondent supported using an electronic system to collect application and performance reporting information to demonstrate program performance to interested stakeholders and the general public. They also appreciate the efforts of the Service to minimize the burden, including the October 1, 2016, date for State data entry.

Response: We agree and thank the respondent for the support.

Accuracy of our estimate of the burden for this collection of information.

Comment: One respondent stated that many grants are ongoing and have been in effect for more than 50 years. The need to alter the structure of these grants is overly burdensome.

Response: We believe the respondent is referring to ongoing projects and not ongoing grants. Grants have a period of performance that is much less than 50 years. Based on this clarification, we agree that using Wildlife TRACS is a change in the method of reporting information that will require States to initially enter baseline information for ongoing projects. However, once the baseline information is entered, Wildlife TRACS will allow efficiencies for ongoing similar projects. Users will be able to assign new grants to existing projects or to copy projects forward through simple steps that will reduce burden.

Comment: Three respondents commented on their concerns about performance reports. These concerns addressed:

(1) The performance report that was previously one paragraph in length must now be reported through multiple tabs within Wildlife TRACS to produce a lengthy report;

(2) The ability to copy forward a project will not produce the burden reduction the Service suggests;

(3) The reports contain redundant information; and

(4) Performance reports change from year to year, so significant time must still be spent to update pertinent information.

Response: We disagree for the following reasons:

(1) Data entry fields in Wildlife TRACS are designed to guide the user to make choices that will build the project information, increasing accuracy and efficiency. This does not affect the length of reports;

(2) Once the baseline information for an ongoing project is entered, Wildlife TRACS allows the information to be copied forward. This improves efficiency in that the user will not be required to repeat entering all information for continued projects or new, similar projects. Once a project is copied forward, adjustments can be made in selected fields to reflect desired changes from the existing, copied project. We remind users that the Wildlife TRACS function to copy projects forward is an option for users as an efficiency, but doing so is not a requirement. States may choose which method of input is most efficient and effective for their needs;

(3) Reports are created from information in the fields, so if there is redundant information it is because that is what the user entered; and

(4) Users will not be required to pull out reports and make changes; the adjustments will be made through logical changes in applicable fields. In addition, when a project is copied forward, it becomes a new project with new performance reporting. There is no requirement under the current reporting system to revise performance information on a completed project based on other projects, nor will it be a requirement when using Wildlife TRACS.

Comment: One respondent stated that the Uniform Administrative Requirements, Cost Principles, and Audit Requirements for Federal Awards at 2 CFR part 200 were designed to streamline the grant application process, but they feel the requirements for Wildlife TRACS go above and beyond this, placing an undue burden on States and representing steps backwards.

Response: We disagree. The focus of 2 CFR part 200 is to streamline guidance that was previously published as several regulations, into one regulation at 2 CFR part 200. This regulatory update is part of an overall effort to more effectively focus Federal resources on improving performance and outcomes while ensuring the financial integrity of taxpayer dollars in partnership with non-Federal stakeholders. The guidance at 2 CFR part 200 provides a Governmentwide framework for grants management that will be complemented by additional efforts to strengthen program outcomes through innovative and effective use of grant-making models, performance metrics, and evaluation. Wildlife TRACS is the tool that WSFR is using to fulfill this directive.

Comment: Three respondents cited several concerns regarding the role of Wildlife TRACS when States apply for grants and when the Service awards grants. Their concerns include:

(1) States must complete Wildlife TRACS data entry before a grant can be approved. The addition of Wildlife TRACS to the grant approval process is excessive and not necessary for the review and approval of grant applications;

(2) Using Wildlife TRACS for grant approval may put a State agency at risk of reverting apportionments;

(3) The requirement to enter data into Wildlife TRACS prior to a grant award results in a duplication of effort, having to submit the grant proposal twice; and

(4) Wildlife TRACS was proposed as a reporting tool and never was supposed to affect the application process.

Response: We disagree for the following reasons:

(1) Wildlife TRACS is not used to approve grants, but rather to approve projects. Grantees are not required to enter data for projects funded with one of WSFR's competitive grant programs until after we award a grant. Grantees are required to enter project information and receive approval prior to project start for projects funded under one of WSFR's mandatory grant programs. However, the Service does not award mandatory grants based on Wildlife TRACS data entry. Mandatory grants are apportioned according to a formula set by law. Entering information for mandatory grant projects allows Service staff the opportunity to review projects to assure they meet program requirements and are substantial in character and design. This process reduces risk and helps States avoid unallowable, unnecessary, or undesirable expenditures;

(2) It is the responsibility of the State to avoid reverting funds. The time required to approve a grant is not related to Wildlife TRACS, but to the availability of WSFR staff to review the proposal, and the completeness of the State's submittal. When States fully engage in Wildlife TRACS, they can use the workflow tool to help save time and more efficiently commit funds;

(3) As stated above, Wildlife TRACS is not a grant-approval tool, so there is no duplication of effort. However, Wildlife TRACS gives users an option to enter information into Wildlife TRACS that can then produce a report that may be used to supplement/support a grant application; and

(4) Wildlife TRACS is a reporting tool. In order to report on project performance, we must know what the project is and be able to compare achievements against the proposal. Wildlife TRACS allows users to enter project information so that the Service can easily see objectives and compare them to achievements.

Comment: One respondent stated the requirement to use Wildlife TRACS for project approval may be problematic and asks that the Service retain some flexibility to accommodate urgent and/or unusual situations.

Response: The project approval process for mandatory grants requires States to enter information into Wildlife TRACS and route appropriately through the workflow. We must maintain consistent procedures to avoid confusion and assure appropriate project approval. However, having Wildlife TRACS protocols in place does not eliminate the ability of States to coordinate with the Service when special needs or circumstances arise.

Comment: Three respondents suggested that Wildlife TRACS be linked to Grants.gov, reducing a duplication of effort and increased workload for applicants. One suggestion was that the Service use Grants.gov instead of Wildlife TRACS to collect project data.

Response: We agree that Wildlife TRACS is not currently tied to Grants.gov, but remind the respondents that Wildlife TRACS is not a grant application system. Grants.gov provides a central portal for applicants to find and apply for Federal financial assistance. We do understand that often a single grant may fully fund a project and we continue to develop options that users may choose to employ to ease the burden of the application process through Grants.gov. In the future, we plan to implement a protocol where Wildlife TRACS will use web services published by Grants.gov to reduce any potential duplication of effort. WSFR anticipates that Wildlife TRACS will offer this capability by December 2017.

Comment: Two respondents stated that State agencies often submit multiple grant applications and have a rigorous State review process that includes coordination among multiple employees. A heavy workload to enter information into Wildlife TRACS could fall onto one employee because of the complicated process, or will require States to reassign staff or hire Wildlife TRACS-specific personnel.

Response: We disagree, as Wildlife TRACS is not a system that the Service uses to approve grants, but rather assists in efficient project approval. We agree that States will have a transition period while learning Wildlife TRACS, but we disagree that having several project leads is more burdensome using Wildlife TRACS than when using the current, paper-based process. A grant or a project that requires coordination among multiple layers of project leaders and approvers must be managed regardless of whether Wildlife TRACS is used or not. The State processes for reviewing and approving grant applications and project proposals is a State function, determined by the State and not driven by Wildlife TRACS. However, Wildlife TRACS may be customized so that when a State has large grants with multiple actions and several project leads, they can manage workflow among those multiple users. Wildlife TRACS offers a workflow option that can assist States to route information among multiple staff and receive project approvals much faster than would happen if paper copies were circulated. It is ultimately up to States to determine the best approach for managing reporting on all projects, including those that are larger and more complicated. We encourage States to explore ways that Wildlife TRACS can assist them to improve efficiencies during the State preparation, review, and approval phases. The Service is open to suggestions for how Wildlife TRACS might allow further efficiencies for States to use when coordinating projects among multiple employees.

Comment: Three respondents stated concerns that the level of cost accounting in Wildlife TRACS will create a need to alter their internal controls and accounting systems. Wildlife TRACS defines a new focus called the action level and requires associated accounting. Historically, this level of reporting has not been required for WSFR grants and creates an undue burden.

Response: We disagree that Wildlife TRACS is forcing States to change internal controls and accounting systems. States must maintain internal controls within their agencies and they should be designed to respond to a variety of altering situations. Wildlife TRACS workflow tools may be used to complement internal processes. Wildlife TRACS is not an accounting system; however, the regulations at 2 CFR part 200.301 require “recipients to provide cost information to demonstrate cost effective practices” as part of their performance measurement. To reduce burden, it may be desirable for States to work with the Service and determine how Wildlife TRACS can best interface with existing State electronic systems. Although it may be advisable to determine how State systems and using Wildlife TRACS can better work together, Wildlife TRACS does not require States to change any of their existing systems or internal controls. The level of reporting is not a new standard, but is a level that should have been reported all along. By separating projects into discrete actions, States and WSFR can each evaluate project success more efficiently.

Comment: Three respondents objected to including effectiveness measures in Wildlife TRACS beyond the State Wildlife Grant program. One cited that performance reporting (2 CFR 200.328(b)(2)) does not require effectiveness measures. Also stated was that measuring effectiveness on 1-year grants is not always possible. Reporting effectiveness creates an undue burden on States.

Response: We disagree. Performance measurement at 2 CFR 200.301 directs that “the recipient's performance should be measured in a way that will help the Federal awarding agency and other non-Federal entities to improve program outcomes, share lessons learned, and spread the adoption of promising practices.” The language at 2 CFR 328(b)(2) does not include the term “effectiveness measures,” but does state at paragraph (i), “Where performance trend data and analysis would be informative to the Federal awarding agency program, the Federal awarding agency should include this as a performance reporting requirement.” Our approach is to demonstrate program needs and accomplishments in a meaningful way by moving to strategies that will gather appropriate information that can be used to adequately inform the Service, States, elected officials, interest organizations, and the public.

Comment: One respondent stated that using Wildlife TRACS is taking staff time away from satisfying grants. Given the time constraints on current staff, we are concerned we may have to hire new staff just to address Wildlife TRACS.

Response: We agree that States will have a transition period when moving from processing paper documents to embracing an electronic format. However, Wildlife TRACS is not creating additional project requirements, but rather is a platform to allow users to respond to current requirements. Wildlife TRACS is designed to assist by allowing States to create an electronic workflow that suits their current structure and at the same time, will improve efficiency and document access.

Comment: Two respondents commented on the accuracy of the estimated burden. One respondent stated that they do not have sufficient information on what type of projects, whether new entries, and what iteration of Wildlife TRACS was used. They stated their opinion that Wildlife TRACS becomes increasingly complex and time-consuming. Since full grant documents must still be submitted, there is no doubt that time invested in Wildlife TRACS data entry will be in addition to grant applications and no savings will be realized by States. The other respondent stated that the estimate of burden is too low. Wildlife TRACS has the potential to reduce burden in the future, but the current burden should be increased by 50 percent.

Response: We make no changes in our burden estimates based on these comments. We are estimating the burden that will be realized over the next 3 years. We expect the burden to be slightly higher when States first transition to using Wildlife TRACS. However, once States fully engage in Wildlife TRACS we expect the burden to significantly decrease. We agree that our burden estimates are less comprehensive due to the relatively limited number of States that have fully engaged in Wildlife TRACS. We based burden estimates on information we received from States that responded to our questions, feedback from Service staff, and our planned improvements to Wildlife TRACS. Improvements under development in Wildlife TRACS will make the system more user-friendly and streamlined, while targeting ways to minimize burden. Also, we are developing tools that States may choose to use when applying for grants that will reduce overall workload. The Service welcomes input and suggestions for continual ways to improve Wildlife TRACS efficiency.

Comment: One respondent stated that Wildlife TRACS continues to undergo changes and this makes it impossible to accurately estimate burden.

Response: We agree that change is a natural component of modern web application development and maintenance, particularly in response to the rapid pace of technology and security advancements. We have made changes to the user experience in Wildlife TRACS, based primarily on recommendations from States and other partners for ways to improve Wildlife TRACS and reduce burden. We will continue to work with our partners to identify improvements and efficiencies in data collection. Once States are fully engaged in Wildlife TRACS data entry, we will have a greater response base for estimating burden.

Comment: One respondent stated that Wildlife TRACS does not effectively accommodate Comprehensive Management System (CMS) reporting and that the CMS enhancement will not be completed by October 1, 2016. Requiring CMS States to enter data into the incomplete Wildlife TRACS system by October 1, 2016, will be an undue burden on CMS States. This deadline should be extended for CMS States until Wildlife TRACS is ready to accept CMS data and the Service gives sufficient time for CMS States to adjust internal processes and train staff.

Response: We agree that Wildlife TRACS does not fully accommodate CMS reporting at this time. However, a process has been vetted by a Federal/State team that will allow CMS States to begin to use Wildlife TRACS to capture accomplishment data until the application can be modified to more easily accommodate the CMS structure. The Service will require CMS States to enter reporting information into Wildlife TRACS, consistent with non-CMS States, and will adequately train staff in using the approach identified.

Comment: One respondent supports Wildlife TRACS by stating that States have no good mechanism for reporting project outcomes. An effort led by the Association of Fish and Wildlife Agencies developed effectiveness measures for State Wildlife Grants, which are being incorporated into Wildlife TRACS. Although entering more data will constitute an additional reporting burden, this information will allow us to provide Congress and the public with a much better understanding of our accomplishments. We feel the expanded reporting opportunities will outweigh the additional data entry burden.

Response: We agree that it is important to incorporate reporting information into Wildlife TRACS that will fulfill legal requirements, our responsibility to the public, and our desire to inform the course of conservation for the future. We continue to consider approaches that will give the greatest return for the least burden. We thank this respondent for understanding our combined responsibilities and the importance of measuring the effectiveness of our grant programs.

Ways to enhance the quality, utility, and clarity of the information to be collected.

Comment: One respondent suggested that geospatial information should only be entered as a component of accomplishments and not required as part of the application process.

Response: We make no changes based on this comment. We remind respondents that Wildlife TRACS is not an application system. However, the project statement in a grant application requires location information, so describing the location of a project when applying is not a new requirement. Wildlife TRACS is a geospatial-based system and entering location information is the first step in data entry. We have learned that project location is integral to conservation efforts and expect that reports resulting from Wildlife TRACS and overlapped with other geospatial systems will greatly improve overall conservation. Wildlife TRACS allows for States to initially enter general geospatial information and to improve the information as the project evolves and completes, so perfecting geospatial information comes in the accomplishment phase, as suggested by the respondent.

Comment: Two respondents suggested that geospatial information should only be collected at the project level and not at the action level.

Response: We agree that there may be projects for which it will be sufficient to report geospatial information on a project level, but others will require more detail. There will also be projects for which the location at the project level and the action level are exactly the same. The project scope is a factor when determining the required level of reporting. Wildlife TRACS enables users to choose the precision of their geospatial data as appropriate for the project scope. The Service has also been working with States to define needs of various programs and the level of detail desired to produce the reports that will best support each program.

Comment: One respondent recommended several considerations for upgrading the system, including: Improving the mapping tool and GIS detail, adding fields that allow States to enter all parts of the project statement, resolving some problems that have been encountered with converting data entries to pdf reports, addressing the need for new/flexible standard indicators, and providing fields for additional information related to real property purchases.

Response: We thank the respondent for these thoughtful comments for improvements to Wildlife TRACS and will take all of these recommendations under consideration.

Comment: One respondent submitted comments asking for increased reporting opportunities that will allow a more complicated and robust inquiry. The respondent gave the following examples of queries not currently supported: Identify all projects within a State on behalf of an individual species or group of species; projects within specific ecoregions or Congressional districts; and collective impacts of related projects over time. The comments recognize Wildlife TRACS' ability to offer opportunities for addressing these reporting needs and even though it may require additional effort at the beginning, the value of the reporting options outweighs the data entry burden.

Response: We agree that robust reporting capabilities are vital to our mission and Wildlife TRACS reporting will allow users to generate this type of report. We expect Wildlife TRACS to be fully functional for robust reporting by December 2016.

Comment: One respondent suggested that the Service should provide a reporting module that State and Federal staff can use to determine if project detail is sufficient to meet reporting needs. When a report module is provided, we will be able to evaluate the situation and better create best management practices for data entry.

Response: We agree that the ability to produce reports from data entered into Wildlife TRACS will help users identify how to improve data entry. New enhancements to the workflow manager will allow users to more easily view validation and workflow status information. We expect Wildlife TRACS to include these enhancements for workflow management by November 2015. We look forward to working with States to refine best practices for data entry.

Comment: Two respondents suggested that estimated costs by actions should not be collected. Financial reporting should be consistent with the Financial and Business Management System (FBMS) and not extend past the subaccount level.

Response: We disagree and recognize that a major benefit of action-level costs is to assist both the Service and States in assessing cost effectiveness of projects. There will be an interface with FBMS that gives users some information to assist with cost analysis, but the cost information in Wildlife TRACS is not auditable. The estimated costs States enter into Wildlife TRACS is for a different purpose than the cost information in FBMS.

Ways to minimize the burden of collection of information on respondents.

Comment: One respondent stated that while it is preferred to minimize the reporting burden, we also want to ensure that the information we provide is sufficient to meet our responsibilities to the Service, elected officials, and the public. When a reporting module has been developed for Wildlife TRACS, we will be in a better position to evaluate reporting burden. At that time, we will work with the Service to find efficiencies that could minimize burden.

Response: We appreciate the commitment to robust reporting and will continue to work with States and other partners to identify efficiencies and to minimize burden.

Comment: Two respondents recommended we develop data communication between Wildlife TRACS and Grants.gov to reduce the burden to States for duplicate work.

Response: We addressed Wildlife TRACS and applications above. When addressing ways to minimize burden, we agree that communication/interfaces with other electronic systems can help to improve efficiencies and reduce burden. Grants.gov is a grant application system and Wildlife TRACS is a project tracking and reporting system, so there will not always be a direct correlation from Wildlife TRACS to Grants.gov. However, for those projects that fall into the category of being funded through one grant, we will work to offer more options that may improve processing and reduce burden. We currently interface with several other electronic systems that serve to improve the user experience and lessen burden, such as FBMS and databases for identifying species, and we will continue to consider other opportunities. We welcome continued suggestions.

Comment: One commenter suggested that Wildlife TRACS should either be upgraded to a full grant-management system, or the Service should retain full responsibility for entering data using State grant applications as the source for obtaining grant data.

Response: We make no change based on this comment. The Department of the Interior made the decision to transition from the various grant and other fiscal management systems being used by programs in the Department to a single fiscal management system, FBMS. Our former system, Federal Aid Information Management System (FAIMS), was decommissioned in October 2012. FAIMS was replaced for financial reporting by the Financial and Business Management System (FBMS), which encompasses all financial and business administrative functions, not only grants programs. FBMS does not address project/grant performance reporting, is not grant-centric, and the system is not accessible to grantees. Wildlife TRACS is focused on filling the gap for performance reporting. There is no change in the responsibility for the grantee to report on project performance. Wildlife TRACS allows States to more accurately report by entering information directly.

Comment: One respondent suggested that we should not implement Wildlife TRACS until it is in its final form, ensuring a stable model, reducing the need for retraining, and reducing the need for State staff to adapt to shifting models and expectations.

Response: We make no changes based on this comment. The adjustments to Wildlife TRACS are to improve the user experience, efficiency of data collection, and response to information requirements. Many of the improvements are a result of recommendations from States that have engaged in Wildlife TRACS. None of the data entered into Wildlife TRACS will be lost as improvements are made. Continued training opportunities are available for users at: https://TRACS.fws.gov/learning.

Comment: One commenter stated that the Service should continue to enter data into Wildlife TRACS, resulting in no impact on States to implement this approach.

Response: We disagree. We refer to responses above for further details. We will continue to assist States during the transition to address the backlog of projects that need to be entered into Wildlife TRACS. We will also work with States after October 1, 2016, to assess needs and offer options.

Comment: One respondent asked us to continue to honor the Federal requirements that grant recipients must only report for those activities that have occurred during the period of performance. Any additional requirements would be especially burdensome and draw resources away from the programs needed to manage the resources.

Response: We agree and will only require reporting on projects during the period of performance. We may ask States to voluntarily assist with information beyond the period of performance, but it is expected that much of the information shared will be from work that States are already accomplishing for their internal needs. We hope to continue to work in partnership with States and other interested organizations to create vital and robust outcome information that will engage and inspire the public; inform our elected officials; and help Federal, State, and local agencies work together for continued conservation successes.

Comment: The commenter objected to the use of taxpayer dollars for these financial assistance programs.

Response: We note the commenter's objection to funding these grant programs. The commenter did not address the information collection requirements, and we did not make any changes to our requirements based on this comment.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB or us to withhold your personal identifying information from public review, we cannot guarantee that it will be done.

Dated: September 24, 2015.
Tina A. Campbell,
Chief, Division of Policy, Performance, and Management Programs, U.S. Fish and Wildlife Service.

[FR Doc. 2015-24682 Filed 9-29-15; 8:45 am]

BILLING CODE 4310-55-P